DEPARTMENT OF COMMERCE

Foreign-Trade Zones Board

[Order No. 1729]

Reorganization/Expansion of Foreign-Trade Zone 14 Under Alternative Site Framework; Little Rock, AR

Pursuant to its authority under the Foreign-Trade Zones Act of June 18, 1934, as amended (19 U.S.C. 81a-81u), the Foreign-Trade Zones Board (the Board) adopts the following Order:

Whereas, the Board adopted the alternative site framework (ASF) in December 2008 (74 FR 1170-1173, 01/12/09; correction 74 FR 3987, 01/22/09; 75 FR 71069-71070, 11/22/10) as an option for the establishment or reorganization of general-purpose zones;

Whereas, the Arkansas Economic Development Commission, grantee of Foreign-Trade Zone 14, submitted an application to the Board (FTZ Docket 34-2010, filed 5/11/2010) for authority to reorganize under the ASF with a service area that includes Clark, Conway, Dallas, Faulkner, Garland, Grant, Hot Spring, Jefferson, Lonoke, Montgomery, Nevada, Pike, Pulaski, Pope, Saline, Yell and White Counties, Arkansas, within and adjacent to the Little Rock Customs and Border Protection port of entry, FTZ 14's existing Sites 1-3 would be categorized as magnet sites, Site 1 would be expanded to include additional acreage and the grantee proposes an initial usage-driven site (Site 4);

Whereas, notice inviting public comment was given in the Federal Register (75 FR 27982-27983, 5/19/10) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 14 under the alternative site framework is approved, subject to the FTZ Act and the Board's regulations, including Section 400.28, to the Board's standard 2,000-acre activation limit for the overall general-purpose zone project, to a five-year ASF sunset provision for magnet sites that would terminate authority for Sites 2 and 3 if not activated by December 31, 2015, and to a three-year ASF sunset provision for usage-driven sites that would terminate authority for Site 4 if no foreign-status merchandise is admitted for a bona fide customs purpose by December 31, 2013.

Signed at Washington, DC this 20th day of December, 2010.
Ronald K. Lorentzen,
Deputy Assistant Secretary for Import Administration, Alternate Chairman, Foreign-Trade Zones Board.
Attest:
Andrew McGilvray,
Executive Secretary.

[FR Doc. 2011-61 Filed 1-5-11; 8:45 am]

BILLING CODE 3510-DS-P